DEPARTMENT OF THE INTERIOR

Bureau of Ocean Energy Management

Outer Continental Shelf (OCS) Scientific Committee (SC); Announcement of Plenary Session

AGENCY: Bureau of Ocean Energy Management (BOEM), Interior.

ACTION: Notice of meeting.

SUMMARY: The OCS Scientific Committee will meet at the Sheraton Reston Hotel in Reston, Virginia. The meeting will serve as a venue to introduce the newest members of the committee to the Environmental Studies Program (ESP) and meet Headquarters and Regional staff.

DATES: Wednesday, February 8, 2012, from 8:30 to 5 p.m.; Thursday, February 9, 2012, from 9 a.m. to 4 p.m.

ADDRESSES: Reston Sheraton Hotel, 11810 Sunrise Valley Drive Reston, Virginia, 20191, telephone (703) 620-9000.

FOR FURTHER INFORMATION CONTACT: A copy of the agenda may be requested from BOEM by emailing Ms. Phyllis Clark at Phyllis.Clark@boem.gov. Other inquiries concerning the OCS SC meeting should be addressed to Dr. Rodney Cluck, Executive Secretary to the OCS SC, Bureau of Ocean Energy Management, 381 Elden Street, Mail Stop 4041, Herndon, Virginia 20170-4817, or by calling (703) 787-1087 or via email at Rodney.Cluck@boem.gov.

SUPPLEMENTARY INFORMATION: In October 2011, 12 new members were appointed to the Committee. This will be the first of two meetings this year and will serve as a venue to introduce the newest members to the Environmental Studies Program (ESP) and meet Headquarters and Regional staff.

On Wednesday, February 8, the Committee will meet in plenary session from 8:30 a.m. to 11:45 a.m. There will be an election of officers, the recently-appointed Director for BOEM will address the Committee on the general status of BOEM and its activities, and the Chief Environmental Officer will present on new opportunities and challenges. From 1 p.m. to 5 p.m., the Committee will break out into disciplinary breakout groups to learn of BOEM's ongoing studies.

On February 9, the Committee will continue meeting in discipline breakout groups from 9 a.m. to 11:45 p.m. From 1 p.m. to 3:15 p.m., Committee business will be discussed and from 3:15 p.m. to 3:30 p.m., public comments will be welcomed.

The meetings are open to the public. Approximately 40 visitors can be accommodated on a first-come-first-served basis.

Authority: Federal Advisory Committee Act, Public Law 92-463, 5 U.S.C., Appendix I, and the Office of Management and Budget's Circular A-63, Revised.

Dated: January 23, 2012.
Alan Thornhill,
Chief Environmental Officer, Bureau of Ocean Energy Management.

[FR Doc. 2012-1638 Filed 1-23-12; 4:15 pm]

BILLING CODE 4310-VH-P